FEDERAL MARITIME COMMISSION

Ocean Transportation Intermediary License; Rescission of Order of Revocation

Notice is hereby given that the Order revoking the license of Ned Shipping Co., Inc. is being rescinded by the Federal Maritime Commission pursuant to sections 14 and 19 of the Shipping Act of 1984 (46 U.S.C. app. 1718) and the regulations of the Commission pertaining to the licensing of Ocean Transportation Intermediaries, 46 CFR part 515.

License No. and Name/Address

2045—Ned Shipping Co., Inc., 5247 Wisconsin Ave., N.W. #3, Washington, D.C. 20015

Sandra L. Kusumoto,
Director, Bureau of Consumer Complaints and Licensing.

[FR Doc. 00-13739 Filed 5-31-00; 8:45 am]

BILLING CODE 6730-01-P